ENVIRONMENTAL PROTECTION AGENCY

[FRL OP-OFA-099]

Environmental Impact Statements; Notice of Availability

Responsible Agency: Office of Federal Activities, General Information 202-564-5632 or https://www.epa.gov/nepa.

Weekly receipt of Environmental Impact Statements (EIS)

Filed November 27, 2023 10 a.m. EST Through December 4, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230168, Final, NMFS, HI, ADOPTION—Hawaii-Southern Californian Training and Testing Final Environmental Impact Statement/Overseas Environmental Impact Statement, Contact: Leah Davis 301-427-8431.

The National Marine Fisheries Service (NMFS) has adopted the United States Navy's Final EIS No. 20180255 filed 10/19/2018 with the Environmental Protection Agency. The NMFS was a cooperating agency on this project. Therefore, republication of the document is not necessary under section 1506.3(b)(2) of the CEQ regulations.

EIS No. 20230169, Final Supplement, NMFS, HI, ADOPTION—Surveillance Towed Array Sensor System Low Frequency Active (SURTASS LFA) Sonar, Contact: Leah Davis 301-427-8431.

The National Marine Fisheries Service (NMFS) has adopted the United States Navy's Final Supplement EIS No. 20190151 filed 06/28/2019 with the Environmental Protection Agency. The NMFS was a cooperating agency on this project. Therefore, republication of the document is not necessary under section 1506.3(b)(2) of the CEQ regulations.

EIS No. 20230170, Final Supplement, NMFS, GU, ADOPTION—Mariana Islands Training and Testing, Contact: Leah Davis 301-427-8431.

The National Marine Fisheries Service (NMFS) has adopted the United States Navy's Final Supplement EIS No. 20200115 filed 05/29/2020 with the Environmental Protection Agency. The NMFS was a cooperating agency on this project. Therefore, republication of the document is not necessary under section 1506.3(b)(2) of the CEQ regulations.

EIS No. 20230171, Final Supplement, NMFS, WA, ADOPTION—Northwest Training and Testing Activities Final Supplemental Environmental Impact Statement/Overseas Environmental Impact Statement, Contact: Leah Davis 301-427-8431.

The National Marine Fisheries Service (NMFS) has adopted the United States Navy's Final Supplement EIS No. 20200184 filed 09/11/2020 with the Environmental Protection Agency. The NMFS was a cooperating agency on this project. Therefore, republication of the document is not necessary under section 1506.3(b)(2) of the CEQ regulations.

EIS No. 20230172, Final, NMFS, CA, ADOPTION—Point Mugu Sea Range, Contact: Leah Davis 301-427-8431.

The National Marine Fisheries Service (NMFS) has adopted the United States Navy's Final EIS No. 20220002 filed 12/30/2021 with the Environmental Protection Agency. The NMFS was a cooperating agency on this project. Therefore, republication of the document is not necessary under section 1506.3(b)(2) of the CEQ regulations.

EIS No. 20230173, Final Supplement, NMFS, AK, ADOPTION—Gulf of Alaska Navy Training Activities, Contact: Leah Davis 301-427-8431.

The National Marine Fisheries Service (NMFS) has adopted the United States Navy's Final Supplement EIS No. 20220125 filed 08/25/2022 with the Environmental Protection Agency. The NMFS was a cooperating agency on this project. Therefore, republication of the document is not necessary under section 1506.3(b)(2) of the CEQ regulations.

EIS No. 20230174, Final, USFS, AZ, Tonto National Forest Plan Revision, Review Period Ends: 01/08/2024, Contact: Tyna Yost 602-225-5200.

Dated: December 4, 2023.
Julie Smith,
Acting Director, NEPA Compliance Division, Office of Federal Activities.

[FR Doc. 2023-26965 Filed 12-7-23; 8:45 am]

BILLING CODE 6560-50-P